DEPARTMENT OF TRANSPORTATION

Coast Guard

33 CFR Part 117

[CGD08-01-026]

Drawbridge Operating Regulation; Bayou Boeuf, LA

AGENCY: Coast Guard, DOT.

ACTION: Notice of temporary deviation from regulations.

SUMMARY: The Commander, Eighth Coast Guard District has issued a temporary deviation from the regulation governing the operation of the Burlington Northern Santa Fe Railway, swing span bridge across Bayou Boeuf, mile 10.2, near Amelia, Louisiana. This deviation allows the Burlington Northern Railroad to close the bridge to navigation from 7 a.m. until 5 p.m. from September 16, 2001 through September 18, 2001. Presently, the draw is required to open on signal. This temporary deviation is issued to allow for repairs to the rest pier and fender system.

DATES: This deviation is effective from 7 a.m. on Sunday, September 16, 2001 until 5 p.m. on Tuesday, September 18, 2001.

ADDRESSES: Unless otherwise indicated, documents referred to in this notice are available for inspection or copying at the office of the Eighth Coast Guard District, Bridge Administration Branch, Commander (ob), 501 Magazine Street, New Orleans, Louisiana, 70130-3396. The Bridge Administration Branch maintains the public docket for this temporary deviation.

FOR FURTHER INFORMATION CONTACT: David Frank, Bridge Administration Branch, telephone (504) 589-2965.

SUPPLEMENTARY INFORMATION: The Bayou Boeuf swing span bridge across Bayou Boeuf, mile 10.2, near Amelia, St. Mary and Assumption Parishes, Louisiana, has a vertical clearance of 6 feet above high water in the closed-to-navigation position and unlimited clearance in the open-to-navigation position. Navigation on the waterway consists of small tugs with tows, fishing vessels, and recreational craft. The Burlington Northern Santa Fe Railway Company requested a temporary deviation from the normal operation of the drawbridge in order to accommodate the maintenance and repair work on the west side rest pier and fender system. These repairs are necessary for the continued operation of the bridge.

This deviation allows the draw of the Bayou Boeuf swing span drawbridge across Bayou Boeuf, mile 10.2, to remain closed to navigation from 7 a.m. until 5 p.m. from September 16, 2001 through September 18, 2001.

Dated: August 15, 2001.
Roy J. Casto,
Rear Admiral, U.S. Coast Guard, Commander, Eighth Coast Guard District.

[FR Doc. 01-21565 Filed 8-24-01; 8:45 am]

BILLING CODE 4910-15-U